FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 012437-001.

Agreement Name: MOL/NMCC/WWOCEAN Space Charter Agreement.

Parties: Wallenius Wilhelmsen Ocean AS; Mitsui O.S.K. Lines, Ltd.; and Nissan Motor Car Carriers Co., Ltd.

Filing Party: Rebecca Fenneman; Jeffrey/Fenneman Law and Strategy PLLC.

Synopsis: The amendment renames the Agreement, updates Wallenius Wilhelmsen Ocean AS' name and address, removes WLS as a party, and removes all authority to jointly negotiate or procure terminal services in the United States.

Proposed Effective Date: 7/9/2021.

Location: https://www2.fmc.gov/FMC.Agreements.Web/Public/AgreementHistory/1905.

Agreement No.: 201365.

Agreement Name: Lease Agreement between the Commonwealth Ports Authority and Saipan Stevedore Company.

Parties: Commonwealth Ports Authority and the Saipan Stevedore Company, Inc.

Filing Party: Joy Ann Tenorio; Commonwealth Ports Authority.

Synopsis: This agreement leases to Saipan Stevedore Co., Inc. portions of the Saipan commercial dock space, warehouse, maintenance and office space and exclusive stevedoring rights at the Port of Saipan on the island of Saipan, Commonwealth of the Northern Mariana Islands.

Proposed Effective Date: 7/15/2021.

Location: https://www2.fmc.gov/FMC.Agreements.Web/Public/AgreementHistory/47529.

Dated: July 16, 2021.
Rachel E. Dickon,
Secretary.

[FR Doc. 2021-15516 Filed 7-20-21; 8:45 am]

BILLING CODE 6730-02-P